DEPARTMENT OF ENERGY

Federal Energy Regulatory Commission

[Docket No. RP04-377-001]

Williston Basin Interstate Pipeline Company; Notice of Tariff Filing

August 4, 2004.

Take notice that on July 30, 2004, Williston Basin Interstate Pipeline Company (Williston Basin) tendered for filing to become a part of its FERC Gas Tariff, Second Revised Volume No. 1, the following tariff sheets to become effective August 1, 2004:

Sub Fifty-Fifth Revised Sheet No. 15

Sub Thirty-First Revised Sheet No. 15A

Sub Fifty-Third Revised Sheet No. 18

Sub Thirty-First Revised Sheet No. 18A

Sub Thirty-First Revised Sheet No. 19

Sub Forty-First Revised Sheet No. 21

Williston Basin states that it has come to their attention that some of the tariff sheets that were included in its July 1, 2004, filing contained incorrect rates. Williston Basin notes that it is refiling certain tariff sheets approved by the Commission on July 28 to reflect the currently effective base tariff rates as of August 1, 2004.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1775 Filed 8-10-04; 8:45 am]

BILLING CODE 6717-01-P